DEPARTMENT OF HOUSING AND URBAN DEVELOPMENT

24 CFR Part 51

Environmental Criteria and Standards

CFR Correction

This rule is being published by the Office of the Federal Register to correct an editorial or technical error that appeared in the most recent annual revision of the Code of Federal Regulations.

In Title 24 of the Code of Federal Regulations, Parts 0 to 199, revised as of April 1, 2022, in section 51.201, reinstate the definition of “Hazardous substances” to read as follows:

§ 51.201 Definitions.

* * * * *

Hazardous substances—means petroleum products (petrochemicals) and chemicals that can produce blast overpressure or thermal radiation levels in excess of the standards set forth in § 51.203. A specific list of hazardous substance is found in appendix I to this subpart.

* * * * *

[FR Doc. 2023-06294 Filed 3-23-23; 8:45 am]

BILLING CODE 0099-10-P